ENVIRONMENTAL PROTECTION AGENCY

[EPA-HQ-OPP-2013-0485; FRL-9902-08]

FIFRA Scientific Advisory Panel; Notice of Cancellation

AGENCY: Environmental Protection Agency (EPA).

ACTION: Notice.

SUMMARY: The Agency is issuing this notice to cancel the 1-day meeting of the Federal Insecticide, Fungicide, and Rodenticide Act Scientific Advisory Panel (FIFRA SAP) to consider and review RNAi Technology as a Pesticide: Problem Formulation for Human Health and Ecological Risk Assessment scheduled for October 29, 2013. The meeting was announced in the Federal Register of August 15, 2013. The meeting will be rescheduled.

FOR FURTHER INFORMATION CONTACT: Sharlene Matten, DFO, Office of Science Coordination and Policy (7201M), Environmental Protection Agency, 1200 Pennsylvania Ave. NW., Washington, DC 20460-0001; telephone number: 202-564-0130; fax number: 202-564-8382; email address: Matten.sharlene@epa.gov.

SUPPLEMENTARY INFORMATION: The meeting was announced in the Federal Register of August 15, 2013 (78 FR 49750) (FRL-9393-3). The meeting will be rescheduled in the near future. EPA will announce the rescheduled meeting in the Federal Register.

List of Subjects

Environmental protection, Pesticides and pests.

Dated: October 23, 2013.
David Dix,
Director, Office of Science Coordination and Policy.

[FR Doc. 2013-25568 Filed 10-24-13; 4:15 pm]

BILLING CODE 6560-50-P